DEPARTMENT OF JUSTICE

Notice of Lodging of Consent Decree; Pursuant to the Resource Conservation and Recovery Act (“RCRA”)

Notice is hereby given that on July 9, 2010, a proposed Consent Decree in United States v. the Metropolitan Bus Authority of Puerto Rico (D. P.R.) No. 3:10-cv-01631 was lodged with the United States District Court for the District of Puerto Rico.

In this action, the United States resolves the Metropolitan Bus Authority of Puerto Rico's (“MBA”) violations of the Resource Conservation and Recovery Act (“RCRA”), 42 U.S.C. 6901, et seq., the regulations implementing RCRA, and an administrative Consent Agreement and Final Order (“CA/FO”) entered into between MBA and the United States Environmental Protection Agency (“US EPA”) on July 8, 2007. The United States asserted claims for MBA's failure to comply with multiple RCRA regulations pertaining to the facility's operations, failure to apply for a permit to store hazardous waste, failure to comply with reporting and record retention regulations, and failure to comply with the terms of the CA/FO.

Under the terms of the proposed settlement, MBA will pay a penalty of $1.2 million and will perform injunctive relief, including implementing RCRA compliance procedures, a RCRA-specific employee training program, and undertaking a comprehensive third-party multimedia environmental compliance audit at its Central Facility in San Juan. The proposed Consent Decree resolves only the civil claims of the United States for the violations alleged in the Complaint filed in this action through the date of lodging.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. the Metropolitan Bus Authority of Puerto Rico (D. P.R.) No. 3:10-cv-01631; D.J. Ref. No. 90-7-1-09630. Commenters may request an opportunity for a public meeting in the affected area, in accordance with section 7003(d) of RCRA, 42 U.S.C. 6973(d).

The Consent Decree may be examined at the Office of the United States Attorney, District of Puerto Rico, Torre Chardon, Suite 1201, 350 Carlos Chardon Ave., San Juan, Puerto Rico 00918, (contact AUSA Isabel Munoz-Acosta), and at U.S. EPA Region II, Office of Regional Counsel, Caribbean Team, Centro Europa Building, Suite 417, 1492 Ponce de Leon Ave. San Juan, Puerto Rico 00907 (contact Lourdes Del Carmen Rodriguez). During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-17228 Filed 7-14-10; 8:45 am]

BILLING CODE 4410-15-P